POSTAL REGULATORY COMMISSION

[Docket No. MC2013-3; Order No. 1503]

Product List Change

AGENCY: Postal Regulatory Commission.

ACTION: Notice.

SUMMARY: The Commission is establishing a docket to consider the Postal Service's request to remove International Restricted Delivery from the competitive product list. This notice provides public notice of the Postal Service's filing, invites public comment, and takes other administrative steps.

DATES: Comments are due: October 25, 2012.

ADDRESSES: Submit comments electronically via the Commission's Filing Online system at http:www.prc.gov. Commenters who cannot submit their views electronically should contact the person identified in the FOR FURTHER INFORMATION CONTACT portion of the preamble for advice on alternatives to electronic filing.

FOR FURTHER INFORMATION CONTACT: Stephen L. Sharfman, General Counsel, at 202-789-6824.

SUPPLEMENTARY INFORMATION:

Table of Contents

I. Introduction

II. Notice of Filings

III. Ordering Paragraphs

I. Introduction

In accordance with 39 U.S.C. 3642 and 39 CFR 3020.30 et seq., the Postal Service filed a formal request and associated supporting information to remove International Restricted Delivery from the competitive product list.¹ International Restricted Delivery service limits who may receive an item as determined by the internal requirements of the destination country. The Request has been assigned Docket No. MC2013-3.

¹ Request of the United States Postal Service to Remove International Restricted Delivery from the Competitive Product List, October 11, 2012 (Request).

To support its Request, the Postal Service filed three attachments as follows:

• Attachment A—a copy of Governors' Decision No. 12-02, authorizing the removal of the product from the competitive product list;

• Attachment B—a Statement of Supporting Justification as required by 39 CFR 3020.32; and

• Attachment C—proposed changes to the Mail Classification Schedule competitive product list.

The Postal Service seeks to remove International Restricted Delivery service from the competitive product list due to low customer demand.² It states that there are no marketplace indicators that demonstrate future volume and revenue growth. Request at 2. In a separate filing, the Postal Service submits a library reference supporting its assertions and an application for non-public treatment, under seal.³ The Postal Service maintains that the data contained in the library reference are commercially-sensitive and proprietary information that should not be released into the public domain pursuant to 39 U.S.C. 410(c)(2) and 5 U.S.C. 552(b)(3). Id. Attachment A at 1.

² Decision of the Governors of the United States Postal Service on Changes in Rates and Classes of General Applicability for Competitive Products at 7, September 13, 2012 (Governors' Decision No. 12-02).

³ United States Postal Service Notice of Filing Library Reference USPS-LR-MC2013-3/NP1 and Application for Non-Public Treatment, October 11, 2012.

In addition, in the Statement of Supporting Justification, Larry E. Richardson, Manager of Alliance Integration and Support, asserts that because the Postal Service is requesting product removal, the product's ability to cover its own costs has no impact on the instant Request. Request, Attachment B at 2. Mr. Richardson contends that removal of the product from the competitive product list ensures there will be no issue of market dominant products subsidizing competitive products. Id.

II. Notice of Filings

The Commission establishes Docket No. MC2013-3 to consider the Request pertaining to the proposed removal of International Restricted Delivery from the competitive product list.

Interested persons may submit comments on whether the Postal Service's filings in the captioned docket are consistent with the policies of 39 U.S.C. 3632, 3633, or 3642, 39 CFR 3015.5, and 39 CFR part 3020, subpart B. Comments are due no later than October 25, 2012. The public portions of the filings can be accessed via the Commission's Web site (http://www.prc.gov).

The Commission appoints James F. Callow to serve as Public Representative in this docket.

III. Ordering Paragraphs

It is ordered:

1. The Commission establishes Docket No. MC2013-3 to consider the Postal Service's Request.

2. Pursuant to 39 U.S.C. 505, James F. Callow is appointed to serve as an officer of the Commission (Public Representative) to represent the interests of the general public in these proceedings.

3. Comments by interested persons in these proceedings are due no later than October 25, 2012.

4. The Secretary shall arrange for publication of this order in the Federal Register.

By the Commission.
Shoshana M. Grove,
Secretary.

[FR Doc. 2012-25844 Filed 10-19-12; 8:45 am]

BILLING CODE 7710-FW-P